FEDERAL RETIREMENT THRIFT INVESTMENT BOARD

Sunshine Act; Notice of Meeting

TIME AND DATE: 1 p.m. (Eastern Time) July 19, 2010.

PLACE: 4th Floor Conference Room, 1250 H Street, NW., Washington, DC 20005.

STATUS: All parts will be open to the public.

MATTERS TO BE CONSIDERED: Parts Open to the Public

1. Approval of the minutes of the June 21, 2010 Board member meeting.

2. Thrift Savings Plan activity report by the Executive Director.

a. Monthly Participant Activity Report

b. Legislative Report

3. Quarterly Reports.

a. Investment Policy Review

b. Vendor Financial Report

CONTACT PERSON FOR MORE INFORMATION: Thomas J. Trabucco, Director, Office of External Affairs, (202) 942-1640.

Dated: July 9, 2010.
Thomas K. Emswiler,
Secretary, Federal Retirement Thrift Investment Board.

[FR Doc. 2010-17588 Filed 7-15-10; 11:15 am]

BILLING CODE 6760-01-P